ENVIRONMENTAL PROTECTION AGENCY

[FRL-9138-3]

Science Advisory Board Staff Office; Notification of a Public Teleconference of the Clean Air Scientific Advisory Committee (CASAC) Particulate Matter Review Panel

AGENCY: Environmental Protection Agency (EPA).

ACTION: Notice.

SUMMARY: The Environmental Protection Agency (EPA) Science Advisory Board (SAB) Staff Office announces a public teleconference on May 7, 2010 of the Clean Air Scientific Advisory Particulate Matter Review Panel to discuss its draft letter on the review of EPA's Policy Assessment for the Review of Particulate Matter National Ambient Air Quality Standards—First External Review Draft (March 2010).

DATES: The teleconference will be held on May 7, 2010 from 10 a.m. to 1 p.m., (Eastern Time).

ADDRESSES: The May 7, 2010 teleconference will be conducted by telephone only.

FOR FURTHER INFORMATION CONTACT: Any member of the public who wants further information concerning the public meeting or public teleconference may contact Dr. Holly Stallworth, Designated Federal Officer (DFO), EPA Science Advisory Board (1400F), U.S. Environmental Protection Agency, 1200 Pennsylvania Avenue, NW., Washington, DC 20460; via telephone/voice mail (202) 343-9867; fax (202) 233-0643; or e-mail at stallworth.holly@epa.gov. General information concerning the CASAC can be found on the EPA Web site at http://www.epa.gov/casac.

SUPPLEMENTARY INFORMATION:

Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App 2. The Panel will comply with the provisions of FACA and all appropriate SAB Staff Office procedural policies.

Section 109(d)(1) of the CAA requires that the Agency periodically review and revise, as appropriate, the air quality criteria and the National Ambient Air Quality Standard (NAAQS) for the six “criteria” air pollutants, including particulate matter (PM). EPA conducts scientific and policy assessments related to both primary (health-based) and secondary (welfare-based) standards for each of these pollutants. As part of that process, the CASAC Particulate Matter Review Panel reviews a series of EPA's assessments that provide the basis for EPA rulemaking.

The purpose of the May 7, 2010 teleconference is to discuss a draft CASAC letter on EPA's Policy Assessment for the Review of the Particulate Matter National Ambient Air Quality Standards (March 2010). EPA's Office of Air and Radiation's Office of Air Quality Planning and Standards requested CASAC's review of the draft Policy Assessment for the Review of the Particulate Matter National Ambient Air Quality Standards (Policy Assessment, March 2010) as part of its review of the National Ambient Air Quality Standard (NAAQS) for particulate matter. The Policy Assessment serves to “bridge the gap” between the scientific information and the judgments required of the Administrator in determining whether it is appropriate to retain or revise the standards. The first draft Policy Assessment builds upon the key scientific and technical information contained in the Agency's Integrated Science Assessment for Particulate Matter (Final Report) (ISA, December 2009) as well as the two draft assessment documents titled Particulate Matter Urban-Focused Visibility Assessment: Second External Review Draft (January 2010) and Quantitative Health Risk Assessment for Particulate Matter: Second External Review Draft (March 2010).

Background information about the formation of the CASAC Particulate Matter Review Panel was published in the Federal Register on March 8, 2007 (72 FR 10527-10528). The Panel previously held a public teleconference on November 30, 2007 (announced in 72 FR 63177-63178) to provide consultative advice on EPA's draft Integrated Review Plan for the National Ambient Air Quality Standards for Particulate Matter(October 2007), the first document in this review of the PM NAAQS. On April 1-2, 2009, CASAC reviewed the Integrated Science Assessment for Particulate Matter—First External Review Draft (December 2008), and provided consultative advice on Particulate Matter National Ambient Air Quality Standards: Scope and Methods Plan for Health Risk and Exposure Assessment (February 2009) and Particulate Matter National Ambient Air Quality Standards: Scope and Methods Plan for Urban Visibility Impact Assessment (February 2009). The April 1-2, 2009 meeting was announced February 19, 2009 in 74 FR 7688-7689. As announced in 74 FR 46586-46587, on October 5-6, 2009, CASAC reviewed the Integrated Science Assessment for Particulate Matter—Second External Review Draft (July 2009) and Particulate Matter Urban Focused Visibility Assessment-External Review Draft (September 2009) and Risk Assessment to Support the Review of the PM Primary National Ambient Air Quality Standards-External Review Draft (September 2009). As announced in 75 FR 8062-8063, the Panel reviewed second drafts of these two documents on March 10-11, 2010. The Panel also held teleconferences (announced in 75 FR 8062-8063) on April 8, 2010 and April 9, 2010 to discuss preliminary responses to charge questions on the Policy Assessment.

Technical Contacts: Any questions concerning Policy Assessment for the Review of Particulate Matter National Ambient Air Quality Standards—First External Review Draft (February 2010) should be directed to Ms. Beth Hassett-Sipple, OAR, at hassett-sipple.beth@epa.gov or 919-541-4605.

Availability of Meeting Materials: All meeting materials (agenda, charge questions, preliminary comments and other materials) for the May 7, 2010 teleconference will be placed on the CASAC Web site on the Web pages for those public meetings, accessible through the calendar link on the blue navigational bar at http://www.epa.gov/casac. The Policy Assessment for the Review of Particulate Matter National Ambient Air Quality Standards: First External Review Draft (February 2010) is available at http://www.epa.gov/ttn/naaqs/standards/pm/s_pm_2007_pa.html.

Procedures for Providing Public Input: Interested members of the public may submit relevant written or oral information for consideration on the topics included in this advisory activity. Oral Statements: To be placed on the public speaker list for the May 7, 2010 teleconference, interested parties should notify Dr. Holly Stallworth, DFO, by e-mail no later than May 1, 2010. Individuals making oral statements on the teleconference will be limited to three minutes per speaker. Written Statements: Written statements for the May 7, 2010 meeting should be received in the SAB Staff Office by May 1, 2010, so that the information may be made available to the CASAC Panel for its consideration prior to this meeting. Written statements for the May 7, 2010 teleconference should be received in the SAB Staff Office by May 1, 2010. Written statements should be supplied to the DFO in the following formats: One hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Stallworth at the phone number or e-mail address noted above, preferably at least ten days prior to the teleconference, to give EPA as much time as possible to process your request.

Dated: April 9, 2010.
Vanessa T. Vu,
Director, EPA Science Advisory Board Staff Office.

[FR Doc. 2010-8769 Filed 4-15-10; 8:45 am]

BILLING CODE 6560-50-P